DEPARTMENT OF ENERGY

Orders Granting, Amending and Vacating Authority To Import and Export Natural Gas and Liquefied Natural Gas

| FE Docket Nos.
Gas Natural Caxitlan, S. DE R.L. | 11-147-NG
Jordan Cove Energy Project, L.P. | 11-127-LNG
Irving Oil Terminals Inc. | 11-144-NG
Puget Sound Energy, Inc. | 11-148-NG
Maritimes Ng Supply | 11-143-NG
Tidal Energy Marketing Inc. | 11-138-NG
Macquarie Energy LLC | 11-149-NG
Iberdrola Energy Services, LLC | 11-150-NG
Applied LNG Technologies Usa, L.L.C. | 11-153-LNG
Freeport Lng Development, L.P. | 11-156-LNG
NOCO Energy | 11-151-NG
Devon Canada Marketing Corporation | 11-152-NG
Suncor Energy Marketing Inc. | 11-154-NG
Tidal Energy Marketing Inc. | 11-159-NG
Tenaska Washington Partners, L.P. | 11-160-NG
Applied LNG Technologies USA, L.L.C. | 11-153-LNG
Yukon Pacific Company, L.P. | 87-68-LNG
Yukon Pacific Company, L.P. | 92-35-LNG

AGENCY: Office of Fossil Energy, Department of Energy (DOE).

ACTION: Notice of orders.

SUMMARY: The Office of Fossil Energy (FE) of the Department of Energy gives notice that during December 2011, it issued Orders granting, amending and vacating authority to import and export natural gas and liquefied natural gas. These Orders are summarized in the attached appendix and may be found on the FE Web site at http://www.fossil.energy.gov/programs/gasregulation/authorizations/Orders-2011.html. They are also available for inspection and copying in the Office of Fossil Energy, Office of Natural Gas Regulatory Activities, Docket Room 3E-033, Forrestal Building, 1000 Independence Avenue SW., Washington, DC 20585, (202) 586-9478. The Docket Room is open between the hours of 8 a.m. and 4:30 p.m., Monday through Friday, except Federal holidays.

Issued in Washington, DC, on January 19, 2012.
John A. Anderson,
Manager, Natural Gas Regulatory Activities, Office of Oil and Gas Global Security and Supply, Office of Fossil Energy.

APPENDIX

DOE/FE Orders Granting Import/Export Authorizations
Order No. | Date issued | FE Docket No. | Authorization holder | Description of action
3040 | 12/02/11 | 11-147-NG | Gas Natural Caxitlan, S. de R.L | Order granting blanket authority to export natural gas to Mexico.
3041 | 12/07/11 | 11-127-LNG | Jordan Cove Energy Project, L.P | Order granting long-term multi-contract authority to export LNG by vessel from the Jordan Cove LNG Terminal to Free Trade Agreement nations.
3042 | 12/07/11 | 11-144-NG | Irving Oil Terminals Inc | Order granting blanket authority to import natural gas from Canada.
3043 | 12/07/11 | 11-148-NG | Puget Sound Energy, Inc | Order granting blanket authority to import/export natural gas from/to Canada.
3044 | 12/08/11 | 11-143-NG | Maritimes NG Supply | Order granting blanket authority to import natural gas from Canada.
3045 | 12/09/11 | 11-138-NG | Tidal Energy Marketing Inc | Order granting blanket authority to import natural gas from Canada.
3046 | 12/09/11 | 11-149-NG | Macquarie Energy LLC | Order granting blanket authority to import/export natural gas from/to Canada/Mexico, to import LNG from Canada/Mexico by truck, to export LNG to Canada/Mexico by vessel, and to import LNG from various international sources by vessel.
3047 | 12/13/11 | 11-150-NG | Iberdrola Energy Services, LLC | Order granting blanket authority to import/export natural gas from/to Canada.
3048 | 12/13/11 | 11-153-LNG | Applied LNG Technologies USA L.L.C | Order granting blanket authority to import LNG from various international sources by vessel, to import LNG from Canada/Mexico by truck and to export LNG to Canada/Mexico by vessel.
3049 | 12/22/11 | 11-156-LNG | Freeport LNG Development, L.P | Order granting blanket authority to import LNG from various international sources by vessel.
3050 | 12/22/11 | 11-151-NG | NOCO Energy Corp. | Order granting blanket authority to import/export natural gas from/to Canada.
3051 | 12/22/11 | 11-152-NG | Devon Canada Marketing Corporation | Order granting blanket authority to import natural gas from Canada.
3052 | 12/22/11 | 11-154-NG | Suncor Energy Marketing Inc | Order granting blanket authority to import/export natural gas from/to Canada.
3053 | 12/22/11 | 11-159-NG | Tidal Energy Marketing Inc | Order granting blanket authority to export natural gas to Canada
3054 | 12/22/11 | 11-160-NG | Tenaska Washington Partners, L.P | Order granting blanket authority to import natural gas from Canada.
3048-A | 12/22/11 | 11-153-LNG | Applied LNG Technologies, LLC | Order amending DOE/FE Order No. 3048 to authorize export of LNG to Canada/Mexico by truck.
350-C | 12/22/11 | 92-35-LNG 87-68-LNG | Yukon Pacific Company, L.P | Order vacating prior authorizations to export LNG.

[FR Doc. 2012-1691 Filed 1-25-12; 8:45 am]

BILLING CODE 6450-01-P